NUCLEAR REGULATORY COMMISSION

[Docket No. 70-7021; NRC-2011-0232]

Rapiscan Laboratories, Incorporated Sunnyvale, CA

AGENCY: Nuclear Regulatory Commission.

ACTION: License termination; issuance.

SUMMARY: The U.S. Nuclear Regulatory Commission (NRC) is providing public notice of the termination of Special Nuclear Materials (SNM) License No. SNM-2018. The NRC has terminated the license held by Rapiscan Laboratories, Inc. to possess and use SNM for research, development, and evaluation of Non-Intrusive Inspection Systems for the Transformational and Applied Research Directorate division of the Domestic Nuclear Detection Office, of the Department of Homeland Security (DHS).

DATES: The license termination for SNM-2018 was issued on October 20, 2017.

ADDRESSES: Please refer to Docket ID NRC-2011-0232 when contacting the NRC about the availability of information regarding this document. You may obtain publicly-available information related to this document using any of the following methods:

• Federal Rulemaking Website: Go to http://www.regulations.gov and search for Docket ID NRC-2011-0232. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Tyrone D. Naquin, Office of Nuclear Material Safety and Safeguards, U.S. Nuclear Regulatory Commission, Washington, DC 20555-0001; telephone: 301-415-7352; email: Tyrone.Naquin@nrc.gov.

SUPPLEMENTARY INFORMATION:

I. Discussion

The NRC has terminated License No. SNM-2018, held by Rapiscan Laboratories, Inc. (Rapiscan), for a site in Sunnyvale, California. Rapiscan was contracted by the DHS to conduct a research program for the development of new technologies that are capable of detecting SNM. The program includes utilizing SNM placed inside fully loaded cargo containers and other concealments during testing of proprietary equipment to determine if it can locate SNM sources placed inside containers when surrounded by the cargo. The materials used consisted of Low Enriched Uranium and High Enriched Uranium constructed for DHS. The SNM was encapsulated consistent with sealed source requirements or plated in 3 to 5 millimeters of nickel and was not dispersible or soluble. The sources used under this license were constructed by and owned by the Department of Energy, who retains ownership.

The initial application for this license was received on October 22, 2010 and license was issued on September 24, 2012. Rapiscan notified the Office of Nuclear Materials Safety and Safeguards on February 17, 2017 that testing was completed. An application to terminate the license was received on May 12, 2017. Rapiscan's use of the licensed materials was for conducting only non-destructive experiments utilizing sealed SNM and therefore, consistent with part 51.22(c)(14)(v) of title 10 of the Code of Federal Regulation (10 CFR), the initial licensing action was categorically excluded from the need to prepare an Environmental Assessment or an Environmental Impact Statement. The NRC staff prepared a safety evaluation report for the termination of SNM-2018. This license termination complies with 10 CFR 70.38, the standards and requirements of the Atomic Energy Act of 1954, as amended, and the NRC's rules and regulations as set forth in 10 CFR chapter 1. Accordingly, this license termination was issued on October 20, 2017.

II. Availability of Documents

The documents identified in the following table are available to interested persons through the Agencywide Documents Access and Management System (ADAMS) accession numbers as indicated.

Document | ADAMS Accession No.
E-mail Notification of Request for Special Nuclear Materials License Termination, SNM-2018 | ML17136A000
License Amendment Request to Terminate Materials License SNM-2018 | ML17136A093
Rapiscan Laboratories, Inc. License Application | ML110970046
M. Shahabidin Letter re; Rapiscan Laboratories, Inc. Transmittal Letter for Special Nuclear Material License Application | ML113560135
Enclosure 3: Rapiscan Labs' Materials License SNM-2018, Docket No. 70-7021, Public Version | ML12255A377
Enclosure 4: Rapiscan Labs' Safety Evaluation Report for SNM-2018, Docket No. 70-7021—Public Version | ML12255A378
Approval of Amendment Request for Special Nuclear Materials License SNM-2018 | ML17289A551

Dated at Rockville, Maryland, this 7th day of March 2018.
For the Nuclear Regulatory Commission.
Tyrone D. Naquin,
Project Manager, Fuel Manufacturing Branch, Division of Fuel Cycle Safety, Safeguards and Environmental Review, Office of Nuclear Material Safety and Safeguards.

[FR Doc. 2018-04947 Filed 3-9-18; 8:45 am]

BILLING CODE 7590-01-P